DEPARTMENT OF COMMERCE

National Oceanic and Atmospheric Administration

RIN 0648-XA290

Magnuson-Stevens Act Provisions; General Provisions for Domestic Fisheries; Extension of Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that two requests for extensions to exempted fishing permits (EFPs) contain all of the required information and warrant further consideration. The Assistant Regional Administrator previously made a determination that the activities authorized under the initial EFPs, issued on June 17, 2010, are consistent with the goals and objectives of the Monkfish Fishery Management Plan (FMP). However, further review and consultation may be necessary before a final determination is made to grant extensions to the original EFPs. The EFP extensions would enable vessels to harvest monkfish granted through the Monkfish Research Set-Aside (RSA) Program, and grants exemptions from the monkfish days-at-sea (DAS) possession limit in the Southern Fishery Management Area (SFMA). The EFP issued to the gillnet tie-down study also exempts vessels from the monkfish minimum fish size limits for research purposes only.

NMFS is soliciting comment from interested parties on these EFP extension requests.

DATES: Comments must be received on or before April 25, 2011.

ADDRESSES: You may submit written comments by any of the following methods:

• E-mail: nero.efp@noaa.gov. Include in the subject line “Comments on GMRI Monkfish RSA EFP Extensions.”

• Mail: Patricia A. Kurkul, Regional Administrator, NMFS, NE Regional Office, 55 Great Republic Drive, Gloucester, MA 01930. Mark the outside of the envelope “Comments on GMRI Monkfish RSA EFP Extensions.”

• Fax: (978) 281-9135.

FOR FURTHER INFORMATION CONTACT: Jason Berthiaume, Fishery Management Specialist, 978-281-9177.

SUPPLEMENTARY INFORMATION: On February 22, 2011, the Gulf of Maine Research Institute (GMRI) requested an extension to EFPs issued to GMRI in support of two projects funded under the 2010 Monkfish RSA Program. The EFPs authorize vessels to conduct compensation fishing in the SFMA using 2010 monkfish RSA DAS and to temporarily retain undersize monkfish for data collection purposes. The applicant requests an extension because the participating vessels were unable to use all of their allocated RSA DAS awarded to GMRI for the 2010 fishing year (FY). GMRI states the vessels were unable to use all of their RSA DAS because the EFPs were not issued until June 17, 2010, and the fishermen thereby missed the peak of the spring fishing season. Additionally, the fall monkfish fishery was less productive than expected because of skate bycatch issues. As a result, fishermen used fewer 2010 monkfish RSA DAS than expected. In addition to compensation fishing, research would be ongoing and, therefore, the previously authorized exemption from monkfish minimum size limits for the gillnet tie-down project would be extended as well. The scope and scale of the original exemptions will not change. Regulations at 50 CFR 648.92(c)(i)(v) allow unused monkfish RSA DAS to carry-over into the following FY.

The tagging project was awarded 313 monkfish DAS under the 2010 Monkfish RSA Program, with a total landings cap of 1,126,800 lb (511,108 kg) of whole monkfish. Compensation fishing would be extended through the 2011 FY until the cumulative monkfish RSA landings for this project in FYs 2010 and 2011 reach 1,126,800 lb (511,108 kg) of whole monkfish (equivalent), or until the awarded 2010 DAS have been fully utilized, whichever occurs first. The tie-down project was awarded 162 monkfish DAS under the 2010 Monkfish RSA Program, with a total landings cap of 583,200 lb (264,535 kg) of whole monkfish. Compensation fishing would be extended through the 2011 FY until the cumulative monkfish RSA landings for this project in FYs 2010 and 2011 reach 583,200 lb (264,535 kg) of whole monkfish (equivalent), or until the awarded 2010 DAS have been fully utilized, whichever occurs first. This would extend the expiration date of the EFPs from April 30, 2011, to April 30, 2012. No further extensions to these EFPs would be made. Additionally, NMFS is considering imposing a cap on monkfish DAS possession limit exemptions for vessels operating under the monkfish RSA program due to potential effects that such exemptions may have on monkfish catch rates for non-RSA vessels.

A detailed description of the initial EFP proposals were provided in previous Federal Register notices (April 16, 2010, 75 FR 19938) and is not repeated here. The applicant may request minor modifications to the EFPs throughout the year. EFP modifications may be granted without further notice if they are deemed essential to facilitate completion of the proposed research and have minimal impacts that do not change the scope or impact of the initially approved EFP requests. Any fishing activity conducted outside the scope of the exempted fishing activity would be prohibited.

Authority: 16 U.S.C. 1801 et seq.

Dated: April 4, 2011.
Margo Schulze-Haugen,
Acting Director, Office of Sustainable Fisheries, National Marine Fisheries Service.

[FR Doc. 2011-8447 Filed 4-7-11; 8:45 am]

BILLING CODE 3510-22-P